DEPARTMENT OF ENERGY

Federal Energy Regulatory Commission

[Docket No. CP02-009-000]

Dominion Transmission, Inc.; Notice of Application

October 29, 2001.

Take notice that on October 19, 2001, Dominion Transmission, Inc. (DTI), 445 West Main Street, Clarksburg, West Virginia 26301, filed in Docket No. CP02-009-000, an application, pursuant to sections 7(b) and (c) of the Natural Gas Act (NGA) and Part 157 of the Commission's Regulations for abandonment authorization and a certificate of public convenience and necessity authorizing the construction and operation of certain compression facilities in Pennsylvania, all as more fully set forth in the application which is on file with the Commission and open to public inspection.

DTI proposes to install 2 compressor units, each with a capacity of 1,775 horsepower (hp) (for a total of 3,550 hp) at DTI's Ardell Compressor Station in Elk County, Pennsylvania. DTI states that it requires the additional compressors to replace capacity formerly provided by a deteriorating portion of Line LN-280 located in Elk, Cameron, Clinton, Potter, and Tioga Counties in Pennsylvania. DTI requests permission and approval to abandon in place 71 miles of this line, consisting of 8 miles of 20-inch line, 53 miles of 16-inch line, and 10 miles of 18-inch line. In addition, DTI proposes to abandon 5 miles of 14-inch line known as Line LN-4, located in Potter and Tioga Counties, Pennsylvania. It is stated that only above-ground facilities would be removed. It is asserted that DTI has determined that this proposal is the most cost-effective means of providing service to its customers with minimal environmental impact. DTI estimates the total cost of the proposed facilities at $6,500,000, and requests rolled-in rate treatment for the project. DTI requests that the Commission issue a preliminary determination by January 1, 2002 and a final certificate by April 1, 2002.

Any questions regarding this application should be directed to Sean R. Sleigh, Certificates Manager, at (304) 627-3305, Dominion Transmission, Inc., Post Office Box 2450, Clarksburg, West Virginia 26302-2450.

There are two ways to become involved in the Commission's review of this project. First, any person wishing to obtain legal status by becoming a party to the proceedings for this project should, on or before November 19, 2001, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the Commission's Web site at http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

David P. Boergers,
Secretary.

[FR Doc. 01-27560 Filed 11-1-01; 8:45 am]

BILLING CODE 6717-01-P